SECURITIES AND EXCHANGE COMMISSION

[SEC File No. 270-817, OMB Control No. 3235-0771]

Submission for OMB Review; Comment Request; Extension: Rule 3a71-3(d)

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 3a71-3(d), (17 CFR 240.3a71-3(d)), under the Securities Exchange Act of 1934 (“Exchange Act”) (15 U.S.C. 78a et seq.).

Rule 3a71-3 under the Exchange Act provides in part that, for purposes of determining whether they can avail themselves of the de minimis exception to the “security-based swap dealer” definition, non-U.S. persons must count certain dealing transactions with non-U.S. counterparties that have been “arranged, negotiated, or executed” by personnel in the United States. Rule 3a71-3(d) provides an exception from that “arranged, negotiated, or executed” counting requirement.

The Commission estimates that up to 24 entities may seek to rely on the exception to the de minimis counting requirement of Rule 3a71-3. In connection with the conditions to the exception, each of those up to 24 entities would make use of an affiliated registered security-based swap dealer or registered broker. In general, the registered entity would be required to comply with the collections of information. Applications for “listed jurisdiction” status may be submitted by the up to 24 relying entities, but the staff believes that the greater portion of such applications will be submitted by foreign financial authorities.

The Commission estimates that the total annual time burden for Rule 3a71-3(d), for all respondents, is approximately 235,243 hours per year. In addition, the Commission estimates that the total annual cost burden for Rule 3a71-3(d), for all respondents, is approximately $1,242,595 per year. A detailed break-down of the burdens is provided in the supporting statement.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by February 23, 2023 to (i) www.reginfo.gov/public/do/PRAMain and (ii) David Bottom, Director/Chief Information Officer, Securities and Exchange Commission, c/o John Pezzullo, 100 F Street NE, Washington, DC 20549, or by sending an email to: PRA_Mailbox@sec.gov.

Dated: January 18, 2023.
Sherry R. Haywood,
Assistant Secretary.

[FR Doc. 2023-01250 Filed 1-23-23; 8:45 am]

BILLING CODE 8011-01-P